DEPARTMENT OF ENERGY

Federal Energy Regulatory Commission

Combined Notice of Filings #1

Take notice that the Commission received the following electric corporate filings:

Docket Numbers: EC12-100-000.

Applicants: Alpha Gas and Electric, LLC.

Description: Application for Authorization for Disposition of Jurisdictional Facilities and Request for Expedited Action of Alpha Gas and Electric, LLC.

Filed Date: 5/10/12.

Accession Number: 20120510-5142.

Comments Due: 5 p.m. ET 5/31/12.

Take notice that the Commission received the following electric rate filings:

Docket Numbers: ER10-2179-010; ER10-2181-010; ER10-2182-010.

Applicants: R.E. Ginna Nuclear Power Plant, LLC, Calvert Cliffs Nuclear Power Plant, LLC, Nine Mile Point Nuclear Station, LLC.

Description: On 5/10/12 CENG Nuclear Entities submits Notice of Change in Status and on 5/11/12 submits Supplemental Information.

Filed Date: 5/10/12; 5/11/12.

Accession Number: 20120510-5146; 20120511-5139.

Comments Due: 5 p.m. ET 5/31/12.

Docket Numbers: ER12-397-001.

Applicants: Midwest Independent Transmission System Operator, Inc.

Description: G491 Compliance filing to be effective 11/15/2011 under ER12-397 Filing Type: 80.

Filed Date: 5/11/12.

Accession Number: 20120511-5158.

Comments Due: 5 p.m. ET 6/1/12.

Docket Numbers: ER12-1152-000; ER12-1153-000.

Applicants: Bounce Energy PA, LLC, Bounce Energy NY, LLC.

Description: Bounce Energy Companies' Additional Information.

Filed Date: 5/11/12.

Accession Number: 20120511-5059.

Comments Due: 5 p.m. ET 6/1/12.

Docket Numbers: ER12-1152-002.

Applicants: Bounce Energy PA, LLC.

Description: Market-Based Rate Application Deficiency Filing to be effective 2/24/2012.

Filed Date: 5/11/12.

Accession Number: 20120511-5016.

Comments Due: 5 p.m. ET 6/1/12.

Docket Numbers: ER12-1153-002.

Applicants: Bounce Energy NY, LLC.

Description: Market-Based Rate Application Deficiency Filing to be effective 2/24/2012.

Filed Date: 5/11/12.

Accession Number: 20120511-5018.

Comments Due: 5 p.m. ET 6/1/12.

Docket Numbers: ER12-1471-003.

Applicants: Canastota Windpower, LLC.

Description: Canastota Windpower, LLC Amendment to Electric Tariff to be effective 5/12/2012.

Filed Date: 5/11/12.

Accession Number: 20120511-5015.

Comments Due: 5 p.m. ET 6/1/12.

Docket Numbers: ER12-1761-000.

Applicants: PJM Interconnection, L.L.C.

Description: Revisions to the PJM Tariff to add a new Schedule 10-Michigan-Ontario Interface to be effective 4/5/2012.

Filed Date: 5/10/12.

Accession Number: 20120510-5148.

Comments Due: 5 p.m. ET 5/31/12.

Docket Numbers: ER12-1762-000.

Applicants: Consolidated Edison Company of New York, Inc.

Description: Modifications to PASNY Revenue Decoupling Mechanism to be effective 5/11/2012.

Filed Date: 5/10/12.

Accession Number: 20120510-5149.

Comments Due: 5 p.m. ET 5/31/12.

Docket Numbers: ER12-1763-000.

Applicants: PJM Interconnection, L.L.C.

Description: Original Service Agreement No. 3284; Queue No. W3-139 to be effective 4/13/2012.

Filed Date: 5/11/12.

Accession Number: 20120511-5017.

Comments Due: 5 p.m. ET 6/1/12.

Docket Numbers: ER12-1764-000.

Applicants: Amplified Power & Gas, LLC.

Description: Baseline New to be effective 7/16/2012.

Filed Date: 5/11/12.

Accession Number: 20120511-5093.

Comments Due: 5 p.m. ET 6/1/12.

Docket Numbers: ER12-1765-000.

Applicants: International Transmission Company.

Description: Notice of Succession to be effective 7/13/2012.

Filed Date: 5/11/12.

Accession Number: 20120511-5113.

Comments Due: 5 p.m. ET 6/1/12.

Docket Numbers: ER12-1766-000.

Applicants: Southern California Edison Company.

Description: True-Up to Tie-Line Fac Agmt with NRG Solar Blythe LLC, Blythe Solar 1 Project to be effective 7/11/2012.

Filed Date: 5/11/12.

Accession Number: 20120511-5114.

Comments Due: 5 p.m. ET 6/1/12.

Docket Numbers: ER12-1767-000.

Applicants: Southern California Edison Company.

Description: True-Up to LGIA SERV AG with NRG Solar Blythe LLC, Blythe Solar 1 Project to be effective 7/11/2012.

Filed Date: 5/11/12.

Accession Number: 20120511-5115.

Comments Due: 5 p.m. ET 6/1/12.

Docket Numbers: ER12-1768-000.

Applicants: PJM Interconnection, L.L.C.

Description: Original Service Agreement No. 3285; Queue No. X1-082 to be effective 4/13/2012.

Filed Date: 5/11/12.

Accession Number: 20120511-5151.

Comments Due: 5 p.m. ET 6/1/12.

Docket Numbers: ER12-1769-000.

Applicants: Viridian Energy NG, LLC.

Description: Market-Based Rate Tariff to be effective 7/1/2012.

Filed Date: 5/11/12.

Accession Number: 20120511-5156.

Comments Due: 5 p.m. ET 6/1/12.

Docket Numbers: ER12-1770-000.

Applicants: DES Wholesale, LLC.

Description: Baseline Filing to be effective 5/11/2012.

Filed Date: 5/11/12.

Accession Number: 20120511-5159.

Comments Due: 5 p.m. ET 6/1/12.

Docket Numbers: ER12-1771-000

Applicants: PJM Interconnection, L.L.C.

Description: Original Service Agreement No. 3318; Queue No. X3-075 to be effective 5/1/2012.

Filed Date: 5/11/12.

Accession Number: 20120511-5160.

Comments Due: 5 p.m. ET 6/1/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2012.
Nathaniel J. Davis, Sr.,
Deputy Secretary.

[FR Doc. 2012-12079 Filed 5-17-12; 8:45 am]

BILLING CODE 6717-01-P